DEPARTMENT OF ENERGY

Federal Energy Regulatory Commission

Combined Notice of Filings

Take notice that the Commission has received the following Natural Gas Pipeline Rate and Refund Report filings:

Filings Instituting Proceedings

Docket Numbers: RP26-388-000.

Applicants: Northern Natural Gas Company.

Description: § 4(d) Rate Filing: 20260120 Negotiated Rate Filing to be effective 1/21/2026.

Filed Date: 1/20/26.

Accession Number: 20260120-5171.

Comment Date: 5 p.m. ET 2/2/26.

Docket Numbers: RP26-390-000.

Applicants: UGI LNG Inc.

Description: § 4(d) Rate Filing: UGI LNG, Inc.—Housekeeping Filing to be effective 2/21/2026.

Filed Date: 1/20/26.

Accession Number: 20260120-5188.

Comment Date: 5 p.m. ET 2/2/26.

Docket Numbers: RP26-391-000.

Applicants: UGI Sunbury, LLC.

Description: § 4(d) Rate Filing: UGI Sunbury, LLC—Housekeeping Filing to be effective 2/21/2026.

Filed Date: 1/20/26.

Accession Number: 20260120-5193.

Comment Date: 5 p.m. ET 2/2/26.

Docket Numbers: RP26-392-000.

Applicants: UGI Mt. Bethel Pipeline, LLC.

Description: § 4(d) Rate Filing: UGI Mt. Bethel Pipeline Co.—Housekeeping Filing to be effective 2/21/2026.

Filed Date: 1/20/26.

Accession Number: 20260120-5195.

Comment Date: 5 p.m. ET 2/2/26.

Docket Numbers: RP26-393-000.

Applicants: UGI Storage Company.

Description: § 4(d) Rate Filing: UGI Storage Company—Housekeeping Filing to be effective 2/21/2026.

Filed Date: 1/20/26.

Accession Number: 20260120-5200.

Comment Date: 5 p.m. ET 2/2/26.

Docket Numbers: RP26-394-000.

Applicants: Iroquois Gas Transmission System, L.P.

Description: § 4(d) Rate Filing: 1.20.26 Negotiated Rates—Castleton Commodities Merchant Trading L.P. H-4010-89 to be effective 1/20/2026.

Filed Date: 1/20/26.

Accession Number: 20260120-5212.

Comment Date: 5 p.m. ET 2/2/26.

Docket Numbers: RP26-395-000.

Applicants: Rockies Express Pipeline LLC.

Description: § 4(d) Rate Filing: REX 2026-01-20 Negotiated Rate Agreement and Amendments to be effective 1/20/2026.

Filed Date: 1/20/26.

Accession Number: 20260120-5215.

Comment Date: 5 p.m. ET 2/2/26.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding. The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: January 21, 2026.
Carlos D. Clay,
Deputy Secretary.

[FR Doc. 2026-01440 Filed 1-23-26; 8:45 am]

BILLING CODE 6717-01-P